DEPARTMENT OF THE INTERIOR

Bureau of Land Management

[MT-925-2810-XU-241E]

Notice of Rescindment of Special Fire Restrictions and Closures in the Billings, Miles City, Malta and Lewistown Field Offices; MT

AGENCY: Bureau of Land Management, Interior.

ACTION: Notice.

SUMMARY: Pursuant to 43 Code of Federal Regulations 9212.2, the prohibitions listed in Order No. MT-00-12, MT-00-09 (Stillwater, Carbon and Sweetgrass counties), MT-00-05 applicable to Bureau of Land Management lands administered by the Billings, Miles City, Malta, and Lewistown Field Offices, dated September 12, 2000, September 5, 2000 and August 11, 2000, will be terminated at 12:01 a.m. Friday, September 22, 2000.

DATES: Restrictions are terminated at 12:01 a.m. on Friday, September 22, 2000.

ADDRESSES: Comments should be sent to BLM Montana State Director, Attention: Pat Mullaney, P.O. Box 36800, Billings, Montana 59107-6800.

FOR FURTHER INFORMATION CONTACT: Pat Mullaney, Fire Management Specialist, 406-896-2915.

Dated: September 20, 2000.
Mat Millenbach,
State Director.

[FR Doc. 00-24623 Filed 9-21-00; 2:08 pm]

BILLING CODE 4310-$$-P